DEPARTMENT OF COMMERCE

International Trade Administration

Notice of Creation of U.S.-Iraq Business Dialogue

AGENCY: International Trade Administration, Department of Commerce.

ACTION: Amendment to Prior Notice.

SUMMARY: The U.S. Department of Commerce and the Iraqi Ministry of Trade have established the U.S.-Iraq Business Dialogue (Business Dialogue or Dialogue). This notice announces an amendment extending the deadline for applications for American representatives to join the U.S. section of the Dialogue.

Dates: Applications must be received no later than December 28, 2006.

Addresses: Please send requests for consideration to Ms. Susan Hamrock, Director, Iraq Investment and Reconstruction Task Force, U.S. Department of Commerce, either by fax on 202-482-0980 or by mail to U.S. Department of Commerce, 14th and Constitution Avenue, NW., Mail Stop 3868, Washington, DC 20230.

For Further Information Contact: Mr. Aaron Kleiner, Office of the Middle East, U.S. Department of Commerce, Room 2029-B, Washington, DC 20230. Phone: 202-482-2680.

Supplementary Information: On October 30, 2006, the International Trade Administration of the U.S. Department of Commerce published a Federal Register notice soliciting applications from U.S. persons interested in serving as members of the U.S. Section of the U.S.-Iraq Business Dialogue. See 71 FR 63286. The International Trade Administration of the U.S. Department of Commerce is amending the previous notice due to the level of interest in the Dialogue and to attract applicants from a more diverse geographic base, including applicants located in the Middle East. Applicants must meet the requirements put forward in the previous notice. See 71 FR 63286.

Dated: December 11, 2006.
Susan Hamrock,
Director, Iraq Investment and Reconstruction Task Force.

[FR Doc. E6-21288 Filed 12-13-06; 8:45 am]

BILLING CODE 3510-DA-P